STATE JUSTICE INSTITUTE

SJI Board of Directors Meeting, Notice

AGENCY: State Justice Institute.

ACTION: Notice of meeting.

SUMMARY: The SJI Board of Directors will be meeting on Monday, April 1, 2019 at 1:00 p.m. The meeting will be held at the National Center for State Courts Headquarters in Williamsburg, Virginia. The purpose of this meeting is to consider grant applications for the 2nd quarter of FY 2019, and other business. All portions of this meeting are open to the public.

ADDRESSES: National Center for State Courts Headquarters, 300 Newport Drive, Williamsburg, Virginia, 23185.

FOR FURTHER INFORMATION CONTACT: Jonathan Mattiello, Executive Director, State Justice Institute, 11951 Freedom Drive, Suite 1020, Reston, VA 20190, 571-313-8843, contact@sji.gov.

Jonathan D. Mattiello,
Executive Director.

[FR Doc. 2019-04267 Filed 3-7-19; 8:45 am]

BILLING CODE P